PATENT AND TRADEMARK OFFICE

External Quality Metrics Surveys

ACTION: Proposed collection; comment request.

SUMMARY: The Patent and Trademark Office, invites the general public and other Federal agencies to take this opportunity to comment on this new information collection, as required by the Paperwork Reduction Act of 1995, Public Law 104-13 (44 U.S.C. 3506(c)(2)(A)).

DATES: Written comments must be submitted on or before September 24, 2007.

ADDRESSES: You may submit comments by any of the following methods:

• E-mail: Susan.Fawcett@uspto.gov. Include “0651-00xx External Quality Metrics Surveys” in the subject line of the message.

• Fax: 571-273-0112, marked to the attention of Susan Fawcett.

• Mail: Susan K. Fawcett, Records Officer, Office of the Chief Information Officer, Customer Information Services Group, Public Information Services Division, U.S. Patent and Trademark Office, P.O. Box 1450, Alexandria, VA 22313-1450.

• Federal e-Rulemaking Portal: http://www.regulations.gov.

FOR FURTHER INFORMATION CONTACT: Requests for additional information should be directed to the attention of 0651-00xx External Quality Metrics Surveys c/o Joseph Rolla, U.S. Patent and Trademark Office, P.O. Box 1450, Alexandria, VA 22313-1450; by facsimile at 571-273-9026, or by e-mail at Joseph.Rolla@uspto.gov.

SUPPLEMENTARY INFORMATION:

I. Abstract

One of the goals of the United States Patent and Trademark Office Strategic Plan is to optimize quality. The Office holds continuously improving quality as one of its guiding principles in the Agency's Strategic Plan framework. As such, the Office plans to consider appropriate measures of patent quality, including the performance targets, with the goal of a balance between the desire for assured high quality results and resource limitations for the initial examination process. Achieving widely accepted quality measures and processes will require that all stakeholders engage in the effort.

To promote greater consistency and credibility for the measurements of quality by the Office, the USPTO is proposing to engage the patent community to assist in the development of an objective set of review criteria and processes that could be applied across all selected components of the current USPTO examination process. The Office will be looking to determine what measures should be used to assess examination quality, how these measures should be reported and what meaningful quality targets should be the goals of an initial system of patent examination. This engagement will take place in the form of a survey, entitled the External Quality Metrics Survey. Through this survey the patent community will assist the USPTO in meeting its strategic goals, including efforts to optimize the patent process, in a clearly and concisely articulated and documented format.

The External Quality Metrics Survey project will be designed to query from the patent community, including but not limited to: major stakeholders such as inventors, large and small; property owners, attorneys and agents (application preparers, prosecutors, licensing entities and litigators), patent examination personnel through their elected representatives, patent information searchers, corporate patent counsel, venture capitalists, academics, including the technology transfer departments and quality assurance specialists with interest in the Intellectual Property community.

To obtain data, the Office proposes to develop a survey instrument with structured elements in four focus areas of quality metrics: what to measure, how to measure, how to report the measures, and how to set USPTO performance targets for these measures. Analysis of survey results will obtain both quantitative and qualitative responses.

This is a voluntary survey. The collected data will not be linked to the respondent and contact information that is used for sampling purposes will be maintained in a separate file from the quantitative data. Respondents are not required to provide any identifying information such as their name, address, or Social Security Number.

II. Method of Collection

Electronically over the Internet or by mail.

III. Data

OMB Number: 0651-00xx.

Form Number(s): N/A.

Type of Review: New information collection.

Affected Public: Individuals or households; business or other for-profit; not-for-profit institutions; Federal Government; and state, local, or tribal Government.

Estimated Number of Respondents: 4,000 responses per year. It is estimated that the USPTO will conduct an online survey of 4,000 respondents, with the intent to conduct a follow-up survey of the same nature in a five-year cycle. The USPTO estimates that 70% of the online surveys will be completed.

Estimated Time Per Response: The USPTO estimates that it will take approximately 60 minutes (1 hour) to complete the online survey. This includes the time to gather the necessary information, complete the request, and submit it to the USPTO.

Estimated Total Annual Respondent Burden Hours: 4,000 hours.

Estimated Total Annual Respondent Cost Burden: $1,216,000. The USPTO believes that a variety of professionals and industry leaders will be responding to these surveys, and will use as the basis for cost burden that of the professional hourly rate of $304 for associate attorneys in private firms.

Item | Estimated time for response (minutes) | Estimated annual responses | Estimated annual burden hours
External Quality Metrics Survey | 60 | 4,000 | 4,000
Total |  | 4,000 | 4,000

Estimated Total Annual Non-hour Respondent Cost Burden: $0. There are no capital start-up, maintenance, operation, or recordkeeping costs, nor are there any filing fees associated with this information collection.

IV. Request for Comments

Comments are invited on: (a) Whether the proposed collection of information is necessary for the proper planning of strategic initiatives, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized or included in the request for OMB approval of this information collection; they also will become a matter of public record.

Dated: July 17, 2007.
Susan K. Fawcett,
Records Officer, U.S. Patent and Trademark Office, Office of the Chief Information Officer, Customer Information Services Group, Public Information Services Division.

[FR Doc. E7-14271 Filed 7-23-07; 8:45 am]

BILLING CODE 3510-16-P